DEPARTMENT OF THE INTERIOR

Bureau of Land Management

Notice of Realty Action for Proposed Land Use Permit on Public Lands Near Fairbanks, AK

Authority: 43 U.S.C. 1732.

AGENCY: Bureau of Land Management, Interior.

ACTION: Notice to the public that certain public lands are available for a non-Federal use.

SUMMARY: The Gas Producers Pipeline Team is comprised of BP Exploration (Alaska), Inc.; ExxonMobil Production Company; and Phillips Alaska, Inc. The Gas Producers Pipeline Team has applied for a permit to use public lands near Fairbanks, Alaska, for a non-Federal purpose. The Bureau of Land Management has determined the lands are available for this use and that publication of this Notice of Realty Action is necessary pursuant to BLM manual 2920.4.

DATES: Submit comments on or before January 7, 2002.

ADDRESSES: Address all comments concerning this notice to Robert Schneider, Field Manager, Northern Field Office, BLM, 1150 University Ave., Fairbanks, AK 99709-3844.

FOR FURTHER INFORMATION CONTACT: Lon Kelly, 907-474-2368.

SUPPLEMENTARY INFORMATION: The Gas Producers Pipeline Team has applied for a permit to use public lands for certain trials of trenching technology. The BLM has determined the lands are available for this non-Federal use. The decision on authorization of the non-Federal use will be made after an evaluation of the application. The application has been assigned the serial number FF093460.

The proposed permit would grant exclusive use of specific public lands for a period of time not to exceed one year, and non-exclusive use for an additional period. The permit would authorize the use of these public lands to conduct trials of trenching machines and related techniques. This work would help assess the potential of trenching technology for use in the eventual construction of a gas pipeline in Alaska.

The proposed action is in conformance with the White Mountains National Recreation Area Resource Management Plan, dated February 6, 1986.

The parcel proposed for permitting under provisions of section 302 of the Federal Land Policy and Management Act (FLPMA) of 1976 and 43 CFR 2920 is described as follows:

Fairbanks Meridian, Alaska

T.4 N., R.2W., secs. 25 and 31

The parcel affected by the proposed permit is near Washington Creek, just off the Elliott Highway, approximately 20 statute miles north of Fairbanks, Alaska. The test trench site is approximately 800 feet by 2000 feet and encompasses about 36.7 acres. A driveway about 200 feet long will connect the test site with the Elliott Highway. The lands are currently undeveloped. The proposed permit would authorize the digging and rehabilitation of 13 trenches, requiring the removal and replacement of 45,000 cubic yards of material for the trenches. Rent would not be less than the appraised fair market value.

For a period of 25 days from the date of publication of this Notice in the Federal Register, interested parties may submit comments to the Northern Field Office Manager at the above address. The 25-day comment period, rather than the customary 45-day period, is necessary to allow expedited evaluation of comments and processing of the permit so work can begin during February 2002, if the application is approved. The work must be conducted in typical winter conditions if the necessary data are to be collected, and a later start would amount to a one-year delay. The BLM manual requires notices of realty action to be published in the Federal Register, and then published in a local newspaper for the following three weeks.

In the absence of adverse comments, the application for the proposed use will be processed in accordance with normal procedures.

Dated: December 10, 2001.
Carson W. Culp,
Assistant Director, Minerals, Realty & Resource Protection.

[FR Doc. 01-30864 Filed 12-12-01; 8:45 am]

BILLING CODE 4310-JA-P